ENVIRONMENTAL PROTECTION AGENCY

[FRL-6563-8]

National Drinking Water Advisory Council; Contaminant Candidate List and 6-Year Review of Existing Regulations Working Group; Notice of Open Meeting

AGENCY: Environmental Protection Agency.

ACTION: Notice.

Under Section 10(a)(2) of Public Law 92-423, “The Federal Advisory Committee Act,” notice is hereby given that a meeting of the Contaminant Candidate List (CCL) Regulatory Determination and 6-Year Review of Existing Regulations Working Group of the National Drinking Water Advisory Council established under the Safe Drinking Water Act, as amended (42 U.S. C. S300f et seq.), will be held on April 3-4, 2000 from 8:30 AM until 5 PM (approximate), 401 M Street, SW, Conference Room 3 North, Washington, DC 20460. The meeting is open to the public, but due to past experience, seating will be limited.

The purpose of this meeting is for the Working Group to develop and use robust and transparent protocols that can be used for making regulatory determinations from the CCL and for the periodic review of existing NPDWRs. The Working Group will provide specific recommendations for analyzing and presenting the available scientific data, and also recommend methods to identify and document the judgments made to arrive at a conclusion and the supporting rationale.

The CCL and 6-Year Review Working Group will develop specific protocols for making regulatory determinations and selecting existing NPDWRs for possible revision. The Working Group will provide specific recommendations for analyzing and presenting the available scientific data, and also recommend methods to identify and document the judgments made to arrive at a conclusion and the supporting rationale. Due to the statutory deadlines mandated by the SDWA's 1996 amendments, the Working Group will develop a protocol to support CCL regulatory determinations before beginning work on the protocol(s) for the 6-year review of existing NPDWRs.

For CCL regulatory determinations, the Working Group will develop protocols for both chemical and microbial contaminants that will be robust enough to apply to contaminants on the current and future CCLs. The Working Group will continue to evaluate the draft framework developed by the EPA for the first meeting.

The working group members will be asked to draft proposed position papers for deliberation by the advisory council, and provide advice and recommendations to the full National Drinking Water Advisory Council. The meeting is open to the public to observe and statements will be taken from the public as time allows.

For more information, contact Corry Westbrook, Designated Federal Officer, Contaminant Candidate List and Regulatory Determination and 6-Year Review of Existing Regulations Working Group, U.S. EPA, Office of Ground Water and Drinking Water (4607), 401 M Street SW, Washington, DC 20460. The telephone number is 202-260-3228, fax 202-260-3762, and e-mail address westbrook.corry@epa.gov.

Dated: March 17, 2000.
Charlene E. Shaw,
Designated Federal Officer, National Drinking Water Advisory Council.

[FR Doc. 00-7229 Filed 3-22-00; 8:45 am]

BILLING CODE 6560-50-P